ENVIRONMENTAL PROTECTION AGENCY

[EPA-HQ-OPP-2015-0317; FRL-9930-03]

Notice of Receipt of Requests for Amendments To Terminate Uses in Certain Pesticide Registrations; Correction

AGENCY: Environmental Protection Agency (EPA).

ACTION: Notice; correction.

SUMMARY: EPA issued a notice in the Federal Register of June 10, 2015, concerning amendments to terminate uses in certain pesticide registrations. This document corrects errors in the sections titled “DATES” and “What action is the agency taking?”.

FOR FURTHER INFORMATION CONTACT: Ricardo Jones, Pesticide Re-evaluation Division (7508P), Office of Pesticide Programs, Environmental Protection Agency, 1200 Pennsylvania Ave. NW., Washington, DC 20460-0001; telephone number: (703) 347-0493; email address: jones.ricardo@epa.gov.

SUPPLEMENTARY INFORMATION:

I. General Information

A. Does this action apply to me?

The Agency included in the June 10, 2015, notice a list of those who may be potentially affected by this action.

B. How can I get copies of this document and other related information?

The docket for this action, identified by docket identification (ID) number EPA-HQ-OPP-2015-0317, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

The notice (FR Doc. 2015-14092) published in the Federal Register of June 10, 2015 (80 FR 32947) (FRL-9928-01) is corrected as follows:

1. On page 32947, second column, under the heading “Dates”, correct paragraph one to add: “chloroxylenol” before the word “registrations” wherever it appears.

2. On page 32947, second column, under the heading “Dates”, after paragraph one, correct to add a new paragraph that reads as follows: “Unless a request is withdrawn by January 6, 2016, for clothianidin registrations for which the registrant has not requested a waiver of the 180-day comment period, EPA expects to issue orders terminating these uses. The Agency will consider withdrawal requests postmarked no later than January 6, 2016. Comments must be received on or before January 6, 2016, for those clothianidin registrations where the 180-day comment period has not been waived.”

3. On page 32948, first column, paragraph two of Unit II is corrected to read as follows:

“Unless a request is withdrawn by the chloroxylenol registrant by July 10, 2015, EPA expects to issue orders terminating the uses described in Table 1 of the June 10, 2015, document for the active ingredient chloroxylenol. Users of these pesticides or anyone else desiring the retention of a use should contact the applicable registrant directly during this 30-day period. Unless a request is withdrawn by the clothianidin registrant by January 6, 2016, EPA expects to issue orders terminating the uses described in Table 1 of the June 10, 2015, document for the active ingredient clothianidin. Users of these pesticides or anyone else desiring the retention of a use should contact the applicable registrant directly during this 180-day period.”

Authority: 7 U.S.C. 136 et seq.

Dated: July 6, 2015.
Michael Goodis,
Acting Director, Pesticide Re-Evaluation Division, Office of Pesticide Programs.

[FR Doc. 2015-17042 Filed 7-10-15; 8:45 am]

BILLING CODE 6560-50-P